ENVIRONMENTAL PROTECTION AGENCY

[FRL-9514-9]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1686.09; NESHAP for the Secondary Lead Smelter Industry; 40 CFR part 63, subparts A and X; was approved on 03/02/2012; OMB Number 2060-0296; expires on 03/31/2015; Approved without change.

Comment Filed

EPA ICR Number 2452.01; NESHAP for Pulp and Paper Production; in 40 CFR part 63 subparts A and S; OMB filed comment on 03/02/2012.

EPA ICR Number 2457.01; NESHAP for Group IV Polymers and Resins; in 40 CFR part 63 subparts A and JJJ; OMB filed comment on 03/02/2012.

EPA ICR Number 1811.08; NESHAP for Polyether Polyol Production; in 40 CFR part 63, subparts A and PPP; OMB filed comment on 03/06/2012.

Withdrawn and Continue

EPA ICR Number 2258.02; PM2.5 NAAQS Implementation Rule (Renewal); Withdrawn from OMB on 03/22/2012.

EPA ICR Number 2313.02; Ambient Ozone Monitoring Regulations: Revisions to Network Design Requirements (Final Rule); Withdrawn from OMB on 03/20/2012.

John Moses,
Director, Collections Strategies Division.

[FR Doc. 2012-9107 Filed 4-16-12; 8:45 am]

BILLING CODE P